DEPARTMENT OF LABOR

Office of the Secretary of Labor

President's Council on the 21st Century Workforce and the Committees on Skills Gap, Demographics and Workplace Issues; Postponement of Meetings

AGENCY: Office of the Secretary of Labor.

ACTION: Notice of postponement of meeting of the President's Council on the 21st Century Workforce and meeting of Committees.

SUMMARY: The meetings scheduled for Tuesday, April 29, 2003, have been postponed indefinitely. These meetings were announced in the Federal Register on Friday, April 11, 2003, at 68 FR 17830.

FOR FURTHER INFORMATION CONTACT: Melanie Baker, Staff Assistant, Office of the 21st Century Workforce, U.S. Department of Labor, Room S-2235, 200 Constitution Avenue, NW., Washington, DC 20210. The contact telephone number is (202) 693-6490.

Signed in Washington, DC on April 11, 2003.
Shelley S. Hymes,
Director, Office of the 21st Century Workforce.

[FR Doc. 03-9449 Filed 4-16-03; 8:45 am]

BILLING CODE 4510-23-M